NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: April 27, 2009 from 10 a.m. to 11 a.m.

ADDRESSES: Congressional Meeting Room South, Capitol Visitor Center.

FOR FURTHER INFORMATION CONTACT: Richard H. Hunt, Director; Center for Legislative Archives; (202) 357-5350.

SUPPLEMENTARY INFORMATION:

Agenda

(1) Chair's opening remarks—Clerk of the House.

(2) Recognition of Co-chair—Secretary of the Senate

(3) Recognition of the Acting Archivist of the United States.

(4) Approval of the minutes of the last meeting.

(5) Discussion of on-going projects and activities.

(6) Activities Report of the Center for Legislative Archives.

(7) Other current issues and new business.

The meeting is open to the public.

Dated: April 8, 2009.
Mary Ann Hadyka,
Committee Management Officer.

[FR Doc. E9-8506 Filed 4-13-09; 8:45 am]

BILLING CODE 7515-01-P